DEPARTMENT OF AGRICULTURE

Rural Utilities Service

Southern Maryland Electric Cooperative: Notice of Availability of an Environmental Assessment

AGENCY: Rural Utilities Service, USDA.

ACTION: Notice of availability of an environmental assessment for public review.

SUMMARY: The Rural Utilities Service (RUS) has issued an Environmental Assessment (EA) to meet its responsibilities under the National Environmental Policy Act (NEPA) and RUS's Environmental and Policies and Procedures (7 CFR Part 1794) in relation to possible financial assistance for a proposed project by Southern Maryland Electric Cooperative (SMECO), with headquarters in Hughesville, Maryland. The proposal consists of the construction of a 30-mile 230 kilovolt (kV) transmission line (which includes a river crossing), a new 230/69 kV switching station, and a 230/69 kV switching station expansion in Calvert and St. Mary's Counties, Maryland. SMECO is requesting that RUS provide financial assistance for the proposal. RUS is considering funding this proposal, thereby making it an undertaking subject to review under Section 106 of the National Historic Preservation Act (NHPA), 16 USC 470(f), and its implementing regulation, “Protection of Historic Properties” (36 CFR Part 800).

DATES: Written comments on this Notice must be received on or before October 4, 2010.

ADDRESSES: To obtain copies of the EA or for further information, contact: Ms. Lauren McGee, Environmental Scientist, USDA/RUS, 1400 Independence Ave., SW., Room 2244-S, Stop 1571, Washington, DC 20250-1571, telephone: (202) 720-1482, fax: (202) 690-0649, or e-mail: lauren.mcgee@wdc.usda.gov. A copy of the EA may be viewed online at: http://www.usda.gov/rus/water/ees/ea.htm; at the RUS address provided in this Notice; at SMECO's Calvert Regional Office, located at: 901 Dares Beach Road, Prince Frederick, MD; and at SMECO's St. Mary's Regional Office, located at: 23365 Hollywood Road, Leonardtown, MD.

SUPPLEMENTARY INFORMATION: SMECO proposes to construct a 230 kV transmission line between the existing Holland Cliff Switching Station in Calvert County to the existing Hewitt Road Switching Station in St. Mary's County, Maryland. The proposal has five segments and includes: (1) The installation of approximately 18 miles of new 230 kV single pole, double-circuit transmission line from the Holland Cliff switching station to a new switching station located in Southern Calvert; (2) the installation of the new Sollers Wharf 230/69 kV switching station; (3) the installation of approximately 10 miles of new 230 kV single pole, double-circuit transmission line from the new Southern Calvert switching station to the existing Hewitt Road switching station; (4) the installation of approximately 2 miles of 230 kV underground transmission cable circuit across the lower Patuxent River; and (5) the expansion of the existing 230 kV ring bus at Hewitt Road switching station to accommodate the new 230 kV transmission line from Southern Calvert. Throughout the right-of-way, the existing 69 kV poles would be removed, and new 230 kV poles would be installed. The existing 69 kV and new 230 kV lines would be installed on the new poles. This configuration would allow the use of the existing 69 kV transmission line right-of-way and preclude the need for additional easement acquisition. The preferred site of the new Sollers Wharf switching station is located near the intersection of Sollers Wharf Road and Pardoe Road, west of Maryland Highway 2/4 and near the Calvert Cliffs tap. Approximately six to ten acres of the 40-acre site would be disturbed during construction. The remainder of the site would serve as a buffer. Construction of the proposal is anticipated for completion in 2015.

A Notice of Intent to prepare an EA and hold a scoping meeting was published in the Federal Register on August 27, 2008; in the Enterprise (St. Mary's County) on August 29, 2008; and in the Calvert Recorder on August 29, 2008. A public meeting was held on September 11, 2008, in SMECO's Calvert Regional Office located at: 901 Dares Beach Road, Prince Frederick, Maryland. A summary of public comments can be found at the RUS Web site listed in this Notice.

As part of its environmental review process, RUS must take into account the effect of the proposal on historic properties in accordance with Section 106 of the National Historic Preservation Act and its implementing regulation, “Protection of Historic Properties” (36 CFR Part 800). Pursuant to 36 CFR 800.2(d)(3), RUS is using its procedures for public involvement under NEPA to meet its responsibilities to solicit and consider the views of the public during Section 106 review. Accordingly, comments from the public submitted in response to scoping will inform RUS decision making in its Section 106 review of the proposal. RUS has made the determination that the proposal would have no adverse effects to historic properties listed in or eligible for listing on the National Register of Historic Places (NRHP).

Because the proposal may involve action in floodplains or wetlands, this Notice also serves as a notice of proposed floodplain or wetland action. The EA includes a floodplain/wetland assessment and floodplain/wetland statement of findings.

Alternatives considered by RUS and SMECO include (a) no action, (b) alternate engineering solutions (including new generation and five transmission system alternatives), and (c) alternate sites. An environmental report that describes the proposal in detail and discusses its anticipated environmental impacts has been prepared by Black and Veatch. RUS has reviewed and accepted the document as its EA of the proposal. The EA is available for public review at the addresses provided in this Notice. Questions and comments should be sent to RUS at the mailing or e-mail addresses provided in this Notice. RUS should receive comments on the EA in writing by October 4, 2010 to ensure that they are considered in its environmental impact determination.

Should RUS, based on its EA of the proposal, determine that the impacts of the construction and operation of the proposal would not have a significant environmental impact, it will prepare a Finding of No Significant Impact (FONSI). Public notification of a FONSI would be published in the Federal Register and in newspapers with circulation in the proposal area.

Any final action by RUS related to the proposal will be subject to, and contingent upon, compliance with all relevant Federal, State and local environmental laws and regulations, and completion of the environmental review requirements as prescribed in RUS's Environmental Policies and Procedures (7 CFR Part 1794).

Mark S. Plank,
Director, Engineering and Environmental Staff USDA, Rural Utilities Service.

[FR Doc. 2010-22063 Filed 9-2-10; 8:45 am]

BILLING CODE P